DEPARTMENT OF HEALTH AND HUMAN SERVICES

Food and Drug Administration

FDA 225-06-8401

Memorandum of Understanding Between the U.S. Food and Drug Administration, Department of Health and Human Services and the Centers for Disease Control and Prevention

AGENCY: Food and Drug Administration, HHS.

ACTION: Notice.

SUMMARY: The purpose of this memorandum of understanding (MOU) is to set forth an agreement between the Centers for Disease Control and Prevention (CDC) and the Food and Drug Administration (FDA) (collectively “the Parties”, or individually as a “Party”) to provide a framework for coordination and collaborative efforts between these two agencies which are both components of the Department of Health and Human Services. This MOU also provides the principles and procedures by which information exchanges between FDA and CDC shall take place. This memorandum supersedes the Memorandum of Understanding between the Centers for Disease Control and the Food and Drug Administration, dated June 26, 2000, and numbered 225-03-8001.

DATES: The agreement became effective June 14, 2006.

FOR FURTHER INFORMATION CONTACT:

For FDA: Ellen F. Morrison, Director, Office of Crisis Management, Emergency Operations Center, Food and Drug Administration, 5600 Fishers Lane, rm. 12A-55, Rockville, MD 20857, 301-827-5660.

For CDC: Steven L. Solomon, Director, Coordinating Center for Health and Information Services, Centers for Disease Control and Prevention, Atlanta, GA 30333, 404-498-0123.

SUPPLEMENTARY INFORMATION: In accordance with 21 CFR 20.108(c), which states that all written agreements and MOUs between FDA and others shall be published in the Federal Register, the agency is publishing notice of this MOU.

Dated: July 24, 2006.
Jeffrey Shuren,
Assistant Commissioner for Policy.

BILLING CODE 4160-01-S

[FR Doc. 06-6603 Filed 7-31-06; 8:45 am]

BILLING CODE 4160-01-S